NATIONAL SCIENCE FOUNDATION

National Science Board; Sunshine Act Meetings; Notice

The National Science Board, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

AGENCY HOLDING MEETING: National Science Board.

DATE AND TIME: December 4, 2012, from 8:00 a.m. to 5:00 p.m., and December 5, 2012 from 8:00 a.m. to 2:00 p.m.

PLACE: These meetings will be held at the National Science Foundation, 4201 Wilson Blvd., Rooms 1235 and 1295, Arlington, VA 22230. All visitors must contact the Board Office (call 703-292-7000 or send an e-mail message to nationalsciencebrd@nsf.gov) at least 24 hours prior to the meeting and provide name and organizational affiliation. All visitors must report to the NSF visitor desk located in the lobby at the 9th and N. Stuart Streets entrance to receive a visitor's badge.

WEBCAST INFORMATION: The public meetings and public portions of meetings will be webcast. To view the meetings, go to http://www.tvworldwide.com/events/nsf/121204/ and follow the instructions.

UPDATES: Please refer to the National Science Board Web site www.nsf.gov/nsb for additional information. Meeting information and schedule updates (time, place, subject matter or status of meeting) may be found at http://www.nsf.gov/nsb/notices/.

AGENCY CONTACT: Jennie L. Moehlmann, jmoehlma@nsf.gov, (703) 292-7000.

PUBLIC AFFAIRS CONTACT: Dana Topousis, dtopousi@nsf.gov, (703) 292-7750.

STATUS: Portions open; portions closed.

Open Sessions

December 4, 2012

8:00-8:05 a.m. (Chairman's introduction)

8:05 a.m.-12:00 p.m. (CPP)

1:30-2:00 p.m. (Executive Committee)

2:00-3:00 p.m. (A&O)

3:00-3:40 p.m. (CSB)

3:45-5:00 p.m. (SEI)

December 5, 2012

9:30 a.m.-11:30 p.m. (Board)

Closed Sessions

December 4, 2012

8:15-8:45 a.m. (CSB)

2:00-2:45 p.m. (CPP)

December 5, 2012

8:00 a.m.-8:30 a.m. (Board, executive closed)

8:30-8:50 a.m. (Board, closed)

Matters To Be Discussed

Tuesday December 4, 2012

Committee on Programs and Plans (CPP)

Open Session: 8:05 a.m.-12:00 p.m.

• Approval of Open CPP Minutes for July 2012

• Committee Chairman's Remarks

• Discussion Item: Structure and Charge for CPP and CPP subcommittees

• Discussion Item: Implementation of Board Policy on Recompetition

• Information Item: Advanced Technology Solar Telescope (ATST): construction update

• Information Item: Renewal of the Cornell High Energy Synchrotron (CHESS) and Assessment of DMR's Future Role

• CPP Program Portfolio Planning: Follow-up from July Space Weather presentation; NSF framework for handling data; next steps and schedule for future program portfolio discussions

• Information Item: U.S. Antarctic Programs

Committee on Programs and Plans (CPP)

Closed Session: 2:00-2:45 p.m.

• Committee Chairman's Remarks

• Approval of Closed CPP Minutes for July 2012

• Information Item: Gemini Observatory: Annual Update

• Information Item: MPS Advisory Committee Review of Astronomy Portfolio

Committee on Strategy and Budget (CSB)

Closed Session: 8:15-8:45 a.m.

• Committee Chairman's Remarks

• Approval of CSB Closed Minutes for July 2012 Meeting and August 2012 teleconference Meeting

• NSF FY 2014 Budget Development and Potential Sequestration Impacts

Committee on Strategy and Budget (CSB)

Open Session: 3:00-3:40 p.m.

• Committee Chairman's Remarks

• Approval of CSB Open Meeting Minutes for July 2012

• NSF FY 2013 Budget Update

• Study on Trends in Science Budget Priorities

• Other Committee Business

Executive Committee

Open Session: 1:30-2:00 p.m.

• Chairman's Remarks

• Discussion of February 2013 Board Meeting Agenda

• Chairman's Closing Remarks

Committee on Audit and Oversight (A&O)

Open Session: 1:30-2:30 p.m.

• Approval of Minutes of the July 2012 Meeting and August 2012 teleconference Meeting

• Committee Chairman's Opening Remarks

• Inspector General's Update and Discussion of Auditor's Report

• Chief Financial Officer's Update

• Human Capital Officer's Update

• Committee Chairman's Closing Remarks

Committee on Science & Engineering Indicators (SEI)

Open Session: 3:45-5:00 p.m.

• Chairman's Remarks

• Approval of June and July 2012 teleconference Meeting Minutes and July 2012 Meeting Minutes

• Approval of Science and Engineering Indicators 2014 Narrative Chapter Outlines

• Update on Science and Engineering Indicators 2014 Production

• Update on the development of Science and Engineering Indicators 2014 Mobile Application

• The Future of Science and Engineering Indicators: Taking Full Advantage of Electronic Delivery

• Update on Release of the Second Companion to Science and Engineering Indicators 2012 entitled, Diminishing Funding and Rising Expectations: Trends and Challenges for Public Research Universities

• Discussion of Indicators Outreach and Future Companion Letters, Statements, and/or Reports

• Chairman's Summary

Wednesday, December 5, 2012

Plenary Board Meeting

Executive Closed Session: 8:00-8:30 a.m.

• Approval of Executive Closed Session Minutes, July 2012 teleconference Meeting

• Approval of Executive Closed Session Minutes, July 2012 Meeting

• 2013 Board Retreat, Off-Site Meeting and Site Visits

• Approval of Honorary Awards Recommendations

Plenary Board Meeting

Closed Session: 8:30-8:50 a.m.

• Approval of Closed Session Minutes, July 2012

• Approval of Closed Session Minutes, August 2012 teleconference Meeting

• Closed Committee Reports

Plenary Board Meeting

Open Session: 9:30-11:30 a.m.

• Approval of Open Session Minutes, July 2012

• Chairman's Report

• Director's Report

• Open Committee Reports

Public Event: Graduate Research Fellowship Program Anniversary

Room 375: 12:30-2:00 p.m.

Meeting Adjourns: 2:00 p.m.

Ann Bushmiller,
Senior Counsel to the National Science Board.

[FR Doc. 2012-29057 Filed 11-28-12; 11:15 am]

BILLING CODE 7555-01-P